JUDICIAL CONFERENCE OF THE UNITED STATES

Hearings of the Judicial Conference Advisory Committees on Rules of Appellate, Bankruptcy, Civil, and Criminal Procedure

AGENCY: Judicial Conference of the United States, Advisory Committees on Rules of Appellate, Bankruptcy, Civil, and Criminal Procedure.

ACTION: Notice of proposed amendments and open hearings.

SUMMARY: The Advisory Committees on Rules of Appellate, Bankruptcy, Civil, and Criminal Procedure have proposed amendments to the following rules:

Appellate Rules: 4, 26, 27, 28, 28.1, 32, 32.1, 34, 35, and 45.

Bankruptcy Rules: 1007, 3004, 3005, 4008, 7004, and 9006.

Civil Rules: 5.1, 6, 24, 27, and 45, Admiralty Rules “B” and “C”.

Criminal Rules: 12.2, 29, 32, 32.1, 33, 34, 45, and 59.

The text of the proposed rule amendments and the accompanying Committee Notes can be found at the United States Federal Courts' Home Page at http://www.uscourts.gov/rules on the Internet.

The Judicial Conference Committee on Rules of Practice and Procedure submits these amendments for public comment. All comments and suggestions with respect to them must be placed in the hands of the Secretary as soon as convenient and, in any event, not later than February 16, 2004. All written comments on the proposed rule amendments can be sent by one of the following four ways: electronic mail via the Internet at http://www.uscourts.gov/rules; regular mail to Peter G. McCabe, Secretary, Committee on Rules of Practice and Procedure of the Judicial Conference of the United States, Thurgood Marshall Federal Judiciary Building, Washington, DC 20544; overnight mail to Peter G. McCabe, Secretary, Committee on Rules of Practice and Procedure of the Judicial Conference of the United States, Thurgood Marshall Federal Judiciary Building, One Columbus Circle, NE., Washington, DC 20002; or facsimile to Peter G. McCabe at (202) 502-1755. In accordance with established procedures all comments submitted on the proposed amendments are available for public inspection.

Public hearings are scheduled to be held on the amendments to:

• Appellate Rules in Los Angeles, California, on January 20, 2004, and in Washington, DC, on January 26, 2004;

• Bankruptcy Rules in Washington, DC, on January 30, 2004;

• Civil Rules in Houston, Texas, on January 9, 2004; and

• Criminal Rules in Atlanta, Georgia, on January 23, 2004.

Those wishing to testify must contact the Secretary at the address above in writing at least 30 days before the hearing.

FOR FURTHER INFORMATION CONTACT: John K. Rabiej, Chief, Rules Committee Support Office, Administrative Office of the United States Courts, Washington, DC 20544, telephone (202) 502-1820.

Dated: September 3, 2003.
John K. Rabiej,
Chief, Rules Committee Support Office.

[FR Doc. 03-23012 Filed 9-9-03; 8:45 am]

BILLING CODE 2210-55-M